DEPARTMENT OF COMMERCE

National Oceanic and Atmospheric Administration

[I.D. 050404B]

Endangered Species; Permit No. 1199

AGENCY: National Marine Fisheries Service (NMFS), National Oceanic and Atmospheric Administration (NOAA), Commerce.

ACTION: Scientific research permit modification.

SUMMARY: Notice is hereby given that a request for modification of scientific research permit no. 1199 submitted by the Guam Department of Agriculture, Division of Aquatic and Wildlife Resources, Mangilao, Guam, has been granted.

ADDRESSES: The amendment and related documents are available for review upon written request or by appointment in the following offices:

Permits, Conservation and Education Division, Office of Protected Resources, NMFS, 1315 East-West Highway, Room 13705, Silver Spring, MD 20910; phone (301)713-2289, fax (301)713-0376; and

Protected Species Coordinator, Pacific Islands Region, NMFS, 1601 Kapiolani Blvd., Room 1110, Honolulu, HI 96814-4700; phone (808)973-2935; (808)973-2941.

FOR FURTHER INFORMATION CONTACT: Patrick Opay, (301)713-1401 or Ruth Johnson, (301)713-2289.

SUPPLEMENTARY INFORMATION: The requested amendment has been granted under the authority of the Endangered Species Act of 1973, as amended (ESA; 16 U.S.C. 1531 et seq.) and the provisions of 50 CFR 222.306 of the regulations governing the taking, importing, and exporting of endangered and threatened fish and wildlife (50 CFR 222-226).

The modification extends the expiration date of the Permit from April 30, 2004, to April 30, 2005, for takes of green (Chelonia mydas) and hawksbill (Eretmochelys imbricata) sea turtles. The permit authorizes the permit holder to capture, handle, measure, sample, tag, and release these species. The purpose of the research is to collect baseline population structure and genetic information for these sea turtles in and around Guam. We are also updating the list of investigators.

Issuance of this amendment, as required by the ESA was based on a finding that such permit: (1) Was applied for in good faith; (2) will not operate to the disadvantage of the threatened and endangered species which are the subject of this permit; and (3) is consistent with the purposes and policies set forth in section 2 of the ESA.

Dated: May 7, 2004.
Stephen L. Leathery,
Chief, Permits, Conservation and Education Division, Office of Protected Resources, National Marine Fisheries Service.

[FR Doc. 04-10895 Filed 5-12-04; 8:45 am]

BILLING CODE 3510-22-S